DEPARTMENT OF LABOR

Employment and Training Administration

[TA-W-40,941 and TA-W-40,941A]

Wheland Automotive Industries, Warrenton, Georgia and Wheland Automotive Industries, Chattanooga, Tennessee; Amended Certification Regarding Eligibility to Apply for Worker Adjustment Assistance

In accordance with section 223 of the Trade Act of 1974 (19 U.S.C. 2273) the Department of Labor issued a Certification Regarding Eligibility to Apply for Worker Adjustment Assistance on May 3, 2002, applicable to workers of Wheland Automotive Industries, located in Warrenton, Georgia. The notice was published in the Federal Register on May 17, 2002 (67 FR 35141).

At the request of the company official, the Department reviewed the certification for workers of the subject firm. The workers produced castings for brake drums and disc brake rotors. The company official reported that employment at the company's Chattanooga, Tennessee plant has declined. The sales of castings for brake drums and disc brake rotors at Chattanooga, Tennessee, have also declined. Layoffs of workers at the company's headquarters in Chattanooga, Tennessee, providing administrative support services to Whelan Automotive Industries has also occurred. The output of castings for brake drums and disc brake rotors at the Chattanooga plant were for the same customer base as the Warrenton, Georgia plant.

Based on the new information provided by the company, the Department is amending the certification to expand coverage to workers of Wheland Automotive Industries in Chattanooga, Tennessee, including the workers at headquarters, engaged in employment related to the production of castings for brake drums and disc brake rotors.

The amended notice applicable to TA-W-40,941 is hereby issued as follows:

“All workers of Wheland Automotive Industries, Warrenton, Georgia (TA-W-40,941), and workers of Wheland Automotive Industries, including headquarters staff, engaged in employment related to the production of castings for brake drums and disc brake rotors at Chattanooga, Tennessee (TA-W-40,941A), who became totally or partially separated from employment on or after January 14, 2001, through May 3, 2004, are eligible to apply for adjustment assistance under section 223 of the Trade Act of 1974.”

Signed at Washington, DC this 20th day of November, 2002.
Linda G. Poole
Certifying Officer, Division of Trade Adjustment Assistance.

[FR Doc. 02-31061 Filed 12-6-02; 8:45 am]

BILLING CODE 4510-30-P